DEPARTMENT OF THE INTERIOR

Fish and Wildlife Service

[FWS-R2-ES-2008-N0071; 20124-1113-0000-F2]

Draft Safe Harbor Agreement and Application for an Enhancement of Survival Permit for the Beautiful Shiner, Chiricahua Leopard Frog, Huachuca Water Umbel, Yaqui Catfish, Yaqui Chub, and Yaqui Topminnow in Cochise County, Arizona

AGENCY: Fish and Wildlife Service, Interior.

ACTION: Notice of availability; receipt of application.

SUMMARY: Alysa F. Bennett, 99 Bar Ranch Limited Liability Limited Partnership, and Mr. Josiah and Mrs. Valer Austin, owners of the Bar Boot Ranch (Applicants), have applied to the U.S. Fish and Wildlife Service (Service) for an enhancement of survival permit (TE-160629-0)pursuant to Section 10(a)(1)(A) of the Endangered Species Act (Act), as amended. The requested permit, which is for a period of 50 years, would authorize incidental take of the threatened beautiful shiner (Cyprinella formosa), threatened Chiricahua leopard frog (Rana chiricahuensis), endangered Huachuca water umbel (Lilaeopsis schaffneriana var. recurva), threatened Yaqui catfish (Ictalurus pricei), endangered Yaqui chub (Gila purpurea), and endangered Yaqui topminnow (Poeciliopsis occidentalis sonoriensis) as a result of conservation actions, on-going livestock operations, recreation, land treatments, and other existing land-use activities. We invite public comment.

DATES: To ensure consideration, written comments must be received on or before June 10, 2008.

ADDRESSES: Persons wishing to review the application, draft Safe Harbor Agreement (SHA), or other related documents may obtain a copy by written or telephone request to the Refuge Manager, U.S. Fish and Wildlife Service, San Bernardino/Leslie Canyon National Wildlife Refuges, P.O. Box 3509, Douglas, Arizona 85608 (520-364-2104). Electronic copies of these documents will also be available for review on the Arizona Ecological Services Field Office Web site, http://www.fws.gov/southwest/es/arizona/. The application and documents related to application will be available for public inspection, by appointment only, during normal business hours (7:30 a.m. to 3:30 p.m.) at the San Bernardino/Leslie Canyon National Wildlife Refuges office. Comments concerning the application, draft SHA, or other related documents should be submitted in writing to the Refuge Manager, U.S. Fish and Wildlife Service, San Bernardino/Leslie Canyon National Wildlife Refuges, P.O. Box 3509, Douglas, Arizona 85608. Please refer to permit number TE-160629-0 when submitting comments.

FOR FURTHER INFORMATION CONTACT: Marty Tuegel at the U.S. Fish and Wildlife Service Tucson office, 201 N. Bonita Avenue, Suite 141, Tucson, Arizona, 85745 (520-670-6150) ext. 232, or by e-mail at Marty_Tuegel@fws.gov.

SUPPLEMENTARY INFORMATION: The Applicants plan to implement watershed improvements that are expected to improve soil stability and hydrologic function in the Leslie Canyon Watershed above the Leslie Canyon National Wildlife Refuge. These watershed improvements, will enhance and maintain existing habitat, create additional habitats, and reestablish populations of the beautiful shiner, Chiricahua leopard frog, Huachuca water umbel, Yaqui catfish, Yaqui chub, and Yaqui topminnow on the Applicants'private lands (approximately 9,050 mi² [23,440 km²]) in Cochise County, Arizona. The SHA is expected to provide a net conservation benefit to the beautiful shiner, Chiricahua leopard frog, Huachuca water umbel, Yaqui catfish, Yaqui chub, and Yaqui topminnow.

The draft SHA and permit application are eligible for categorical exclusion under the National Environmental Policy Act of 1969, based upon completion of a draft Environmental Assessment.

Section 9 of the Act prohibits the “taking” of threatened or endangered species. However, the Service, under limited circumstances, may issue permits to take threatened and endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

Christopher T. Jones,
Acting Regional Director, Region 2, Albuquerque, New Mexico.

[FR Doc. E8-7690 Filed 4-10-08; 8:45 am]

BILLING CODE 4510-55-P